DEPARTMENT OF JUSTICE

Antitrust Division

Notice Pursuant to the National Cooperative Research and Production Act of 1993—National SPA and Pool Institute

Notice is hereby given that, on September 15, 2004, pursuant to section 6(a) of the National Cooperative Research and Production Act of 1993, 15 U.S.C. 4301 et seq. (“the Act”), the National Spa and Poll Institute (“NSPI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: National Spa and Pool Institute, Alexandria, VA. The nature and scope of NSPI's standards development activities are: to provide recommended minimum guidelines to builders, manufactures, installers and pool operators for the design, equipment, operation and installation of new construction and renovation of pools and spas.

Dorothy B. Fountain,
Deputy Director of Operations, Antitrust Division.

[FR Doc. 04-23527 Filed 10-20-04; 8:45 am]

BILLING CODE 4410-11-M